GULF COAST ECOSYSTEM RESTORATION COUNCIL

[Docket No.: 109132021-1111-03]

Notice of Proposed Subaward Under a Council-Selected Restoration Component Award

AGENCY: Gulf Coast Ecosystem Restoration Council.

ACTION: Notice.

SUMMARY: The Gulf Coast Ecosystem Restoration Council (RESTORE Council) publishes notice of proposed subawards from the U.S. Environmental Protection Agency (EPA) to implement the Gulf of Mexico Conservation Enhancement Grant Program (GMCEGP), which is an approved project on the Initial Funded Priorities List.

FOR FURTHER INFORMATION CONTACT: Please send questions to Joshua Easton by email joshua.easton@restorethegulf.gov or phone: (504) 252-7717.

SUPPLEMENTARY INFORMATION: Section 1321(t)(2)(E)(ii)(III) of the Resources and Ecosystems Sustainability, Tourist Opportunities, and Revived Economies Act of 2012 (33 U.S.C. 1321(t)) (RESTORE Act) and Treasury's implementing regulation at 31 CFR 34.401(b), require that, for purposes of awards made under the Council-Selected Restoration Component, a State or Federal award recipient may make a grant or subaward to or enter into a cooperative agreement with a nongovernmental entity that equals or exceeds ten (10) percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial Funded Priorities List, which is available on the Council's website at Initial (2015) Funded Priorities List | Restore The Gulf, RESTORE Act funds in the amount of $2,472,917 to implement the Gulf of Mexico Conservation Enhancement Grant Program (GMCEGP) will be provided through an interagency agreement (IAA) with the U.S. Environmental Protection Agency (EPA). The GMCEGP will support the primary RESTORE Comprehensive Plan goal of restoring and conserving habitat. Under the GMCEGP Interagency Agreement, EPA will provide subawards to non-profit organizations in the amounts of $501,464 to the Atlanta Botanical Garden; $300,000 to the Galveston Bay Foundation; $250,000 to the Nature Conservancy; and $500,000 to the Partnership for Gulf Coast Land Conservation. Through these subawards, the GMCEGP will: (1) Enhance land protection and conservation in priority landscapes, (2) improve habitats and water quality; and (3) enhance the understanding of the benefit of land protection to communities through focused outreach and education supporting conservation and stewardship.

Keala Hughes,
Director of External Affairs and Tribal Relations.

[FR Doc. 2021-20066 Filed 9-16-21; 8:45 am]

BILLING CODE 6560-58-P